DEPARTMENT OF LABOR

Mine Safety and Health Administration

Petitions for Modification of Existing Mandatory Safety Standards

AGENCY: Mine Safety and Health Administration (MSHA), Labor.

ACTION: Notice.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before April 25, 2011.

ADDRESSES: You may submit your comments, identified by the petition's “docket number” on the subject line, using any of the following methods:

1. Electronic Mail: zzMSHA-comments@dol.gov. Include the docket number of the petition in the subject line of the message.

2. Facsimile: 1-202-693-9441.

3. Regular Mail: MSHA, Office of Standards, Regulations and Variances, 1100 Wilson Boulevard, Room 2350, Arlington, Virginia 22209-3939, Attention: April E. Nelson, Acting Director, Office of Standards, Regulations and Variances.

4. Hand-Delivery or Courier: MSHA, Office of Standards, Regulations and Variances, 1100 Wilson Boulevard, Room 2350, Arlington, Virginia 22209-3939, Attention: April E. Nelson, Acting Director, Office of Standards, Regulations, and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2011-001-C.

Petitioner: Left Fork Mining Company, Inc., P.O. Box 13, Arjay, Kentucky 40902.

Mines: Straight Creek No. 1 Mine, MSHA I.D. No 15-12564, located in Bell County, Kentucky.

Regulation Affected: 30 CFR 75.364(b)(1) (Weekly examination).

Modification Request: The petitioner requests a modification of the existing standard to permit evaluation points to be established for weekly evaluation of the affected area of the intake return. The petitioner states that: (1) This petition is necessary for the intake slope entry due to a 26 degree incline. Three evaluation points located along the slope entry will be established for weekly evaluation of the affected area; (2) a certified person will examine each of the evaluation points at least every 7 days, including: (a) examine for hazards on the approaches to and at the evaluation points: (b) evaluate and measure the quality and quantity of air flowing past the evaluation points to determine the methane, oxygen, and carbon monoxide concentrations using a MSHA approved hand-held device; (c) measure air quantity using an appropriately calibrated anemometer; (d) not permitting harmful gases to accumulate in exceed of the legal limits for a return air course; (e) if an increase of 0.5 percent methane above the previous reading or a 10 percent unplanned change in airflow quantity from the previous reading is determined at these evaluation points, an immediate examination and evaluation of the cause will be conducted; (f) a date board will be provided at each evaluation point where a certified examiner will record the date, time, and his or her initials; and (g) the results of each weekly examination in a book maintained on the surface; (3) the permanent ventilation controls and evaluation points will be shown on the annual mine ventilation map in accordance with 30 CFR 75.372; and (4) all evaluation points and approaches to the evaluation points will be maintained in a safe condition at all times. The petitioner asserts that the proposed alternative method will at all times guarantee no less than the same measure of protection afforded by the existing standard.

Docket Number: M-2011-002-C.

Petitioner: Rosebud Mining Company, P.O. Box 1025, Northern Cambria, Pennsylvania 15714.

Mines: Beaver Valley Mine, MSHA I.D. No. 36-08725, located in Beaver County, Pennsylvania. Bergholz Mine, MSHA I.D. No. 33-04565, located in Jefferson County, Ohio. Cherry Tree Mine, MSHA I.D. No. 36-09224; Harmony Mine, MSHA I.D. No. 36-09477; Penfield Mine, MSHA I.D. No. 36-09355, located in Clearfield County, Pennsylvania. Clementine Mine, MSHA I.D. No. 36-08862; Darmac #2 Mine, MSHA I.D. No. 36-08135; Dutch Run Mine, MSHA I.D. No. 36-0870; Logansport Mine, MSHA I.D. No. 36-08841; Tracy Lynne Mine, MSHA I.D. No. 36-08603, located in Armstrong County, Pennsylvania. Heilwood Mine, MSHA I.D. No. 36-09407; Knob Creek Mine, MSHA I.D. No. 36-09394; Lowry Mine, MSHA I.D. No. 36-09287; Tom's Run Mine, MSHA I.D. No. 36-08525, located in Indiana County, Pennsylvania. Little Toby Mine, MSHA I.D. No. 36-08847, located in Elk County, Pennsylvania. Mine 78, MSHA I.D. No. 36-09371, located in Somerset County, Pennsylvania. Tusky Mine, MSHA I.D. No. 33-04509, located in Tuscarawas County, Ohio. Twin Rocks Mine, MSHA I.D. 36-08836, located in Cambria County, Pennsylvania.

Regulation Affected: 30 CFR 75.503 (Permissible electric face equipment) and 30 CFR 18.35(a)(2) (Portable trailing cables and cords).

Modification Request: The petitioner requests a modification of the existing standard to permit the use of MSHA approved five (5) conductor 10 American Wire Gauge (AWG) cable (SO cable) with a diameter of 0.77 with a tolerance of +/− 0.03. The petitioner states that: (1) The cable will be hung on insulated hangers for the entire length at all times; (2) within 60 days after the proposed decision and order becomes final, proposed revisions for its approved 30 CFR part 48 training plan will be submitted to the District Manager. In addition, the proposed revisions will specify initial and refresher training regarding the terms and conditions stated in the proposed decision and order. The petitioner asserts that the proposed alternative method will at all times guarantee no less than the same measure of protection afforded by the standard.

Docket Number: M-2011-003-C.

Petitioner: Frasure Creek Mining, LLC, P.O. Box 142, Justice, West Virginia 24851.

Mine: Deep Mine No. 11, MSHA I.D. No. 46-09329, located in Fayette County, West Virginia, and Isaban Deep Mine No. 3, MSHA I.D. No. 46-09245, located in Mingo County, West Virginia.

Regulation Affected: 30 CFR 75.1101-1(b) (Deluge-type water spray systems).

Modification Request: The petitioner requests a modification of the existing standard to eliminate the use of blow-off dust covers for the spray nozzles of a deluge-type water spray system. The petitioner proposes to conduct a weekly inspection and functional test of its complete deluge-type spray system. The petitioner states that: (1) The system consists of an average of thirty (30) sprays along each of approximately ten (10) primary belt-conveyor drives and an average of sixty (60) sprays along each of eight (8) secondary drives; (2) the nozzles are currently provided with blow-off dust covers, but the dust covers are not necessary because the nozzles can be maintained in an unclogged condition through weekly use; and (3) it is burdensome to recap the large number of covers weekly after each inspection and functional test. The petitioner asserts that the proposed alternative method will at all times guarantee no less than the same measure of protection afforded the miners than the existing standard.

Docket Number: M-2011-001-M.

Petitioner: Carmeuse Industrial Sands, P.O. Box 429, Brady, Texas 76825.

Mine: Brady Plant, MSHA I.D. No. 41-01371, located in McCulloch County, Texas.

Regulation Affected: 30 CFR 56.13020 (Use of compressed air).

Modification Request: The petitioner requests a modification of the existing standard to permit the implementation of a clothes cleaning booth process that has been jointly developed with and successfully tested by the National Institute for Occupational Safety and Health (NIOSH). This process utilizes controlled compressed air for the purpose of cleaning miners' dust laden clothing. The petitioner states: (1) Only miners trained in the operation of the NIOSH-tested clothes cleaning booth process will be permitted to use the process. (2) Clothes cleaning booth process training will be incorporated into the Part 46 training plan. (3) All miners entering the NIOSH-tested clothes cleaning booth will be required to wear full seal goggles for eye protection, ear plugs or muffs for hearing protection, and fit-tested respirators with N100 filters for respiratory protection. (4) The clothes cleaning booth will have a caution sign, conspicuously posted, indicating that the use of respirators, hearing protection, and goggles are required before entering the booth. (5) Air pressure through the spray manifold will be limited to 30 pounds per square inch. A lock-box with a single key controlled by the Plant Manager will be used to prevent tampering with the regulator. (6) The air spray manifold will consist of 1.5 inch schedule 80 pipe, which has a failure pressure of 1,300 pounds per square inch, capped at the base and actuated by an electrically-controlled ball valve at the top. (7) The air spray manifold will contain 26 total nozzles of which 25 will be 18.4 SCFM @ 3 psig and the 26th and lowermost nozzle will be 19.2 SCFM @ 30 psig. (8) The uppermost spray nozzle will be located at a height of not more than 56 inches. Those miners with a shoulder height less than 56 inches will use mechanical air spray deflectors, which are quick, effective, and easy to use. (9) Miners will be use side deflectors to eliminate the possibility of incidental contact with the air nozzles during use of the clothes cleaning booth. (10) Spraying Systems Company Nozzle No. AA727-23 contains a recessed design to provide air escape should the nozzle be accidentally placed against a surface. (11) An electrically actuated valve will be inter-locked into the bag house dust collector to prevent use of the clothes cleaning booth if the dust collection system is not functioning or inoperable. (12) The clothes cleaning booth will be fitted with a stand-alone dust collection system. (13) Airflow through the clothes cleaning booth will be sufficient to maintain negative pressure during its use in order to prevent contamination of the environment outside of the booth. (14) The air receiver tank supplying air to the manifold system will be of sufficient volume to permit not less than 20 seconds of continuous cleaning time. (15) Airflow through the booth will be in the downward direction, thereby moving contaminants away from the miner's breathing zone. (16) Miners entering the clothes cleaning booth will perform regular user checks examining the valves and nozzle for damage of malfunction and ensure that the door is fully closed before opening the air valve. (17) Periodic maintenance checks will be performed in accordance with the NIOSH recommendation contained within the “Clothes Cleaning Process Instruction Manual.” No significant safety or health concerns have been identified because the eyes are protected by full seal goggles, the skin is protected by work clothes, hearing is protected by plugs or muffs, and the lungs are protected by a respirator, and air is limited to 30 pounds per square inch, which is the Occupational Safety and Health Administration (OSHA) limit for cleaning purposes. The petitioner asserts that the cleaning process will provide a more effective clothes cleaning method and a direct reduction of a miners' exposure to respirable crystalline silica dust, thus reducing their health risks while providing no less a degree of safety than that provided by the standard.

Dated: March 18, 2011.
Patricia W. Silvey,
Certifying Officer.

[FR Doc. 2011-6919 Filed 3-23-11; 8:45 am]

BILLING CODE 4510-43-P